ENVIRONMENTAL PROTECTION AGENCY

[FRL-12392-01-R5]

Clean Air Act Operating Permit Program; Order on Petition for Objection to State Operating Permit for Warrick Newco LLC

AGENCY: Environmental Protection Agency (EPA).

ACTION: Notice of final order on petition.

SUMMARY: The Environmental Protection Agency (EPA) Administrator signed an Order dated October 9, 2024, denying a petition dated July 9, 2024, from Sierra Club. The petition requested that the EPA object to a Clean Air Act (CAA) title V operating permit issued by the Indiana Department of Environmental Management (IDEM) to Warrick Newco LLC for its aluminum production plant located in Newburgh, Warrick County, Indiana.

ADDRESSES: The final order, the petition, and other supporting information are available for public inspection during normal business hours at the following address: Environmental Protection Agency, Region 5, Air and Radiation Division, 77 West Jackson Boulevard, Chicago, Illinois 60604. This facility is open from 8:30 a.m. to 4:30 p.m., Monday through Friday, excluding Federal holidays. We recommend that you contact the individual listed in the FOR FURTHER INFORMATION CONTACT section before visiting the Region 5 office. Additionally, the final order and petitions are available electronically at: https://www.epa.gov/title-v-operating-permits/title-v-petition-database.

FOR FURTHER INFORMATION CONTACT: Priyanka Painuly, Air and Radiation Division (AR 18J), Environmental Protection Agency, Region 5, 77 West Jackson Boulevard, Chicago, Illinois 60604, (312) 886-7569, painuly.priyanka@epa.gov.

SUPPLEMENTARY INFORMATION: EPA received a petition from the Sierra Club dated July 9, 2024, requesting that EPA object to the issuance of operating permit no. T173-46378-00007, issued by IDEM to Warrick Newco LLC for its aluminum production plant located in Newburgh, Warrick County, Indiana. On October 9, 2024, the EPA Administrator issued an Order denying the petition. The order explains the basis for EPA's decision.

Sections 307(b) and 505(b)(2) of the CAA provide that a petitioner may request judicial review of those portions of an order that deny issues in a petition. Any petition for review shall be filed in the United States Court of Appeals for the appropriate circuit no later than January 21, 2025.

Authority: 42 U.S.C. 7401 et seq.

Dated: November 18, 2024.
Debra Shore,
Regional Administrator, Region 5.

[FR Doc. 2024-27366 Filed 11-21-24; 8:45 am]

BILLING CODE 6560-50-P